DEPARTMENT OF THE INTERIOR

National Park Service

[NPS-WASO-NRNHL-20410; PPWOCRADP2, PCU00RP14.R50000]

National Historic Landmarks Committee of the National Park System Advisory Board Meeting

AGENCY: National Park Service, Interior.

ACTION: Notice of meeting.

SUMMARY: Notice is hereby given in accordance with the Federal Advisory Committee Act (5 U.S.C. Appendix 1-16), and Part 65 of title 36 of the Code of Federal Regulations, that a meeting of the National Historic Landmarks Committee of the National Park System Advisory Board will be held beginning at 10:00 a.m. on May 9, 2016, at the Charles Sumner School Museum and Archives. The meeting will continue beginning at 9:30 a.m. on May 10, 2016.

DATES: The meeting will be held on Monday, May 9, 2016, from 10:00 a.m. to 4:30 p.m.; and Tuesday, May 10 from 9:30 a.m. to 4:30 p.m. (EASTERN).

Location: The Charles Sumner School Museum and Archives, 3rd Floor, the Richard L. Hurlbut Memorial Hall, 1201 17th Street NW., Washington, DC 20036.

Agenda: The National Park System Advisory Board and its National Historic Landmarks Committee may consider the following nominations:

California

CHICANO PARK, San Diego, CA

NEUTRA STUDIO AND RESIDENCES (VDL RESEARCH HOUSE), Los Angeles, CA

Iowa

KIMBALL VILLAGE SITE, Plymouth County, IA

Kansas

WYANDOTTE NATIONAL BURYING GROUND (ELIZA BURTON CONLEY BURIAL SITE), Kansas City, KS

Maryland

SHIFFERSTADT, Frederick, MD

Mississippi

MEDGAR WILEY AND MYRLIE EVERS HOUSE, Jackson, MS

New York

FRANKLIN D. ROOSEVELT LIBRARY, Hyde Park, NY

NEW YORK STATE BARGE CANAL HISTORIC DISTRICT

Albany County, NY

City of Cohoes

Colonie

Cayuga County

Aurelius

Brutus

Cato

Conquest

Mentz

Montezuma

Erie County, NY

City of Tonawanda

Amherst

Tonawanda

Herkimer County, NY

City of Little Falls

Danube

Frankfort

German Flatts

Herkimer

Little Falls

Manheim

Ohio

Russia

Schuyler

Village of Frankfort

Village of Herkimer

Village of Ilion

Village of Mohawk

Madison County, NY

Lenox

Sullivan

Monroe County, NY

City of Rochester

Brighton

Chili

Clarkson

Trenton

Verona

Vienna

Western

Village of Sylvan Beach

Onondaga County, NY

City of Syracuse

Cicero

Clay

Elbridge

Geddes

Lysander

Salina

Van Buren

Village of Baldwinsville

Village of Liverpool

Orleans County, NY

Albion

Gaines

Murray

Ridgeway

Shelby

Village of Albion

Village of Holley

Village of Medina

Oswego County, NY

City of Fulton

City of Oswego

Constantia

Granby

Hastings

Minetto

Schroeppel

Scriba

Volney

West Monroe

Village of Cleveland

Village of Phoenix

Rensselaer County, NY

City of Troy

Schaghticoke

Saratoga County, NY

City of Mechanicville

Clifton Park

Halfmoon

Moreau

Northumberland

Saratoga

Stillwater

Waterford

Village of Schuylerville

Village of Stillwater

Village of Waterford

Schenectady County, NY

City of Schenectady

Glenville

Niskayuna

Rotterdam

Village of Scotia

Seneca County, NY

Seneca Falls

Tyre

Waterloo

Village of Waterloo

Washington County, NY

Easton

Fort Ann

Fort Edward

Greenwich

Hartford

Kingsbury

Whitehall

Village of Fort Ann

Village of Fort Edward

Village of Whitehall

Wayne County, NY

Arcadia

Galen

Lyons

Macedon

Palmyra

Savannah

Village of Clyde

Village of Lyons

Village of Macedon

Village of Newark

Village of Palmyra

SCHOMBURG CENTER FOR RESEARCH IN BLACK CULTURE, New York, NY

Ohio

GREENHILLS HISTORIC DISTRICT, Greenhills, OH

Pennsylvania

KEIM HOMESTEAD, Oley, PA

Proposed Amendments to Existing Designations:

Arizona

TALIESIN WEST, Maricopa County, AZ (boundary change)

Illinois

RIVERSIDE HISTORIC DISTRICT, Village of Riverside, IL (boundary change)

Indiana

INDIANA WAR MEMORIALS HISTORIC DISTRICT, Indianapolis, IN (updated documentation, boundary and name change)

Louisiana

MAISON OLIVIER (ACADIAN HOUSE), St. Martinville, LA (updated documentation and name change)

Maryland

MONOCACY BATTLEFIELD, City of Frederick and Frederick County, MD (updated documentation and boundary change)

North Carolina

OLD SALEM HISTORIC DISTRICT, Winston-Salem, NC (updated documentation and boundary change)

Texas

CASA NAVARRO, San Antonio, TX

Virginia

BALL'S BLUFF BATTLEFIELD AND NATIONAL CEMETERY, Leesburg, VA (boundary change and updated documentation)

VIRGINIA STATE CAPITOL, Richmond, VA (name change)

Proposed Withdrawal of Designations:

Louisiana

KATE CHOPIN HOUSE, Cloutierville, LA

The committee may also consider the following historic trail:

REVISION OF FEASIBILITY STUDIES OF OREGON, CALIFORNIA, MORMON PIONEER AND PONY EXPRESS NATIONAL HISTORIC TRAILS, CA, CO, ID, IA, KS, MO, NE., NV, OK, OR, UT, WA, AND WY

FOR FURTHER INFORMATION CONTACT: Patricia Henry, Historian, National Historic Landmarks Program, National Park Service, 1849 C Street NW., Washington, DC 20240, email: (202) 354-2216 or email: Patty_Henry@nps.gov.

SUPPLEMENTARY INFORMATION: The purpose of the meeting of the National Historic Landmarks Committee of the National Park System Advisory Board is to evaluate nominations of historic properties in order to advise the National Park System Advisory Board of the qualifications of each property being proposed for National Historic Landmark designation, and to make recommendations regarding the possible designation of those properties as National Historic Landmarks to the National Park System Advisory Board at a subsequent meeting at a place and time to be determined. The Committee also makes recommendations to the National Park System Advisory Board regarding amendments to existing designations and proposals for withdrawal of designation. The members of the National Historic Landmarks Committee are:

Dr. Stephen Pitti, Chair

Dr. James M. Allan

Dr. Cary Carson

Dr. Yong Chen

Mr. Douglas Harris

Ms. Mary Hopkins

Mr. Luis Hoyos, AIA

Dr. Sarah A. Leavitt

Dr. Barbara J. Mills

Dr. Michael E. Stevens

Dr. Amber Wiley

Dr. David Young

The meeting will be open to the public. Pursuant to 36 CFR part 65, any member of the public may file, for consideration by the National Historic Landmarks Committee of the National Park System Advisory Board, written comments concerning the National Historic Landmarks nominations, amendments to existing designations, or proposals for withdrawal of designation.

Comments should be submitted to J. Paul Loether, Chief, National Historic Landmarks Program and National Register of Historic Places, National Park Service, 1849 C Street NW., Washington, DC 20240, email: Paul_Loether@nps.gov.

Before including your address, telephone number, email address, or other personal identifying information in your comment, you should be aware that your entire comment—including your personal identifying information—may be made publicly available at any time. While you can ask us in your comment to withhold your personal identifying information from public review, we cannot guarantee that we will be able to do so.

Dated: March 21, 2016.
Alma Ripps,
Chief, Office of Policy.

[FR Doc. 2016-06848 Filed 3-24-16; 8:45 am]

BILLING CODE 4310-EE-P